DEPARTMENT OF ENERGY

Federal Energy Regulatory Commission

[Docket Nos. PL04-2-000 and EL03-236-000]

Compensation for Generating Units Subject to Local Market Power Mitigation in Bid-Based Markets, PJM Interconnection, L.L.C.; Notice of Technical Conferences

February 3, 2004.

As previously announced in notices issued January 12 and 28, 2004, conferences will be held on February 4 and 5, 2004, to discuss issues related to local market power mitigation and the methods of compensating must-run generators in organized markets.¹ The conferences will begin at 9 a.m. at the offices of the Federal Energy Regulatory Commission, 888 First Street NE., Washington, DC 20426. The Commissioners may attend all or part of the conferences.

¹ In an Order issued December 19, 2003, the Commission directed staff to convene a two-part technical conference on compensation of must run generating units. Compensation for Generating Units Subject to Local Market Power Mitigation in Bid-Based Markets, 105 FERC ¶61,312 (2003).

The February 4, 2004 technical conference will include perspectives from key industry experts and market participants on local market power mitigation and Reliability Must-Run (RMR) issues. A notice issued on January 28, 2004, presented a list of speakers for February 4, 2004. A revised list of speakers for February 4, 2004 follows.

Agenda for the February 4, 2004 Conference

Morning Session #1 (9-9:20 a.m.)

Presentation on capital commitment/investment decision-making

Frank Napolitano—Lehman Brothers Inc.

Jonathan Baliff—Credit Suisse First Boston Corporation

Michael Thomas—Calpine Corporation

Morning Session #2 (9:30 a.m.-12:15 p.m.)

William Hogan—Harvard University

Michael Schnitzer—The NorthBridge Group, representing Exelon Corp.

Roy Shanker—Consultant to generators and financial market participants

David Patton—Potomac Economics, MISO Market Monitor

Joe Bowring—PJM Market Monitor

Roy Thilly—Wisconsin Public Power Inc.

Abram Klein—Edison Mission Marketing & Trading

Mssrs. Napolitano, Baliff, and Thomas will participate in the Question and Answer session.

Lunch Break (12:15-1:30 p.m.)

Afternoon Session #1 (1:30-3 p.m.)

John Anderson—John Hancock Financial Services

Jonathan Baliff—Credit Suisse First Boston Corporation

Mark Reeder—New York Public Service Commission

Steve Wemple—Con Edison and EEI Alliance of Energy Suppliers

Robert Rapp—KeySpan Energy

Jonathan Falk—NERA, representing PPL

Steve Corneli—NRG Power Marketing Inc

Bob Ethier—ISO-NE Market Monitor

Gunnar Jorgensen—Northeast Utilities/Select Energy

Afternoon Session #2 (3:15-4:45 p.m.)

Howard Newman—Warburg Pincus

Danielle Jassaud—Public Utility Commission of Texas

John Meyer—Reliant Resources, Inc.

Judi Mosley—Pacific Gas & Electric Company

Keith Casey—CAISO

Ron McNamara—MISO

Steve Beuning—Xcel Energy

Transcripts of the conference will be immediately available from Ace Reporting Company (202-347-3700 or 1-800-336-6646), for a fee. They will be available for the public on the Commission's e-Library two weeks after the conference. The Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Questions about the February 4 conference should be directed to: Michael Coleman, Office of Markets, Tariffs, and Rates, 888 First Street NE., Washington, DC 20426, (202) 502-8236, michael.coleman@ferc.gov.

Questions about the February 5 PJM conference should be directed to: David Kathan, Office of Markets, Tariffs, and Rates, 888 First Street NE., Washington, DC 20426, (202) 502-6404, david.kathan@ferc.gov.

Magalie R. Salas,
Secretary.

[FR Doc. E4-224 Filed 2-9-04; 8:45 am]

BILLING CODE 6717-01-P